DEPARTMENT OF HEALTH AND HUMAN SERVICES

National Institutes of Health

Center for Scientific Review; Amended Notice of Meeting

Notice is hereby given of a change in the meeting of the Macromolecular Structure and Function A Study Section, June 5, 2008, 8 a.m. to June 6, 2008, 6 p.m., Doubletree Hotel Washington, DC, 1515 Rhode Island Avenue, NW., Washington, DC 20005 which was published in the Federal Register on April 4, 2008, 73 FR 18539-18542.

The meeting will be held one day only, June 5, 2008, from 8 a.m. to 6 p.m. The meeting location remains the same. The meeting is closed to the public.

Dated: April 9, 2008.
Jennifer Spaeth,
Director, Office of Federal Advisory Committee Policy.

[FR Doc. E8-8050 Filed 4-15-08; 8:45 am]

BILLING CODE 4140-01-M